DEPARTMENT OF THE INTERIOR

Fish and Wildlife Service

Notice of Availability of Draft Comprehensive Conservation Plan and Environmental Assessment for Las Vegas National Wildlife Refuge, Las Vegas, NM

AGENCY: Fish and Wildlife Service, Department of the Interior.

ACTION: Notice of availability.

SUMMARY: The U.S. Fish and Wildlife Service (Service) announces that a Draft Comprehensive Conservation Plan (CCP) and Environmental Analysis (EA) for the Las Vegas National Wildlife Refuge is available for review and comment. This CCP/EA, prepared pursuant to the National Wildlife Refuge System Administration Act of 1966, as amended by the National Wildlife Refuge System Improvement Act of 1997, and the National Environmental Policy Act of 1969, describes how the Service intends to manage this refuge over the next 15 years.

ADDRESSES: A copy of the CCP is available on compact diskette or hard copy, and you may obtain a copy by writing: Yvette Truitt, Biologist/Natural Resource Planner, U.S. Fish and Wildlife Service, PO Box 1306, Albuquerque, NM 87103-1306. Requests may also be made via electronic mail to: yvette_truitt@fws.gov.

FOR FURTHER INFORMATION CONTACT: Yvette Truitt, Biologist/Natural Resource Planner, 505-248-6452 or Joe Rodriguez, Refuge Manager, 505-425-3581.

SUPPLEMENTARY INFORMATION: The National Wildlife Refuge System Administration Act of 1966, as amended by the National Wildlife Refuge System Improvement Act of 1997 (16 U.S.C. 668dd-668ee et seq.) requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Background: The Las Vegas National Wildlife Refuge was established on August 24, 1965 by the authority of the Migratory Bird Conservation Act (16 U.S.C. 712d) for use as an inviolate sanctuary, or any other management purpose, for migratory birds. Located in northeastern New Mexico, the 8672 acre Refuge is comprised of prairie grasslands, ponderosa pine forest, pinon-juniper woodlands, steep canyons, lakes and ponds, small disjointed patches of riparian areas and irrigated lands. Management efforts focus on enhancing and restoring native grassland, riparian and wetland communities for migratory birds, fish and other wildlife species.

The Draft CCP/EA addresses a range of topics including habitat and wildlife management, public use opportunities, land acquisition, invasive species control, and administration and staffing for the Refuge. The key refuge issues and how they are addressed in the plan alternatives are summarized below. Alternative A is the current management, or what is currently offered at the Refuge. Alternative B is the proposed action. Alternative C would call for no active management on the Refuge.

Improvements to public use facilities: Alternative A: The public use program would remain at current levels and no new facilities would be developed on the Refuge. Alternative B: The public use program would increase and/or enhance educational and outreach activities, recreational opportunities, community involvement, and improve facilities. Alternative C: The public use program would be discontinued.

Refuge Land and Boundary Protection: Alternative A: There would be no acquisition of in holdings and, no exploration of possible refuge boundary expansion. Alternative B: The Service would actively pursue acquisition of in holdings under existing authorities and policies from willing sellers. The Service would begin discussions with adjacent land owners regarding habitat conservation partnership opportunities to cooperatively enhance or protect wildlife habitats through agreements. The refuge would consider (in concept only) future purchase of fee simple and less than fee simple interest in lands adjacent the refuge from willing sellers only. Any purchase of interest in lands would be subject to additional NEPA compliance and other policy considerations. Alternative C: Same as Alternative A.

Water management activities: Alternative A: Improvements to the water delivery system would remain secondary to other immediate management needs on the Refuge. Alternative B: Improvements to water management activities would be accomplished. Costs would be spread over a long period of time and to the degree possible shared through the development of partnerships and in-kind efforts. Alternative C: There would be no water delivery improvements.

Comment Period: Please submit comments within 45 days after the date of this publication in the Federal Register.

Public Meetings/Hearings: An open house/public involvement session to receive comments on the Draft CCP/EA will be held in September 17, 2003. Special mailings, newspaper articles, and other media announcements will be used to inform the public of the time and location of the meeting.

Send Comments To: Yvette Truitt, Biologist/Natural Resource Planner, U.S. Fish and Wildlife Service, P.O. Box 1306, Albuquerque, New Mexico, 87103-1306. Comments may also be sent via electronic mail to: yvette_truitt@fws.gov.

Dated: August 20, 2003.
Geoffrey L. Haskett,
Acting Regional Director, U.S. Fish and Wildlife Service, Albuquerque, New Mexico.

[FR Doc. 03-22256 Filed 8-29-03; 8:45 am]

BILLING CODE 4310-55-P